DEPARTMENT OF LABOR

Office of the Secretary

Agency Information Collection Activities; Submission for OMB Review; Request for Comments; Consumer Expenditure Surveys: Quarterly Interview and Diary

ACTION: Notice of availability; request for comments.

SUMMARY: The Department of Labor (DOL) is submitting the Bureau of Labor Statistics (BLS) sponsored information collection request (ICR) revision titled, “Consumer Expenditure Surveys: Quarterly Interview and Diary,” to the Office of Management and Budget (OMB) for review and approval for use in accordance with the Paperwork Reduction Act (PRA) of 1995. Public comments on the ICR are invited.

DATES: The OMB will consider all written comments that agency receives on or before December 3, 2018.

ADDRESSES: A copy of this ICR with applicable supporting documentation; including a description of the likely respondents, proposed frequency of response, and estimated total burden may be obtained free of charge from the RegInfo.gov website at http://www.reginfo.gov/public/do/PRAViewICR?ref_nbr=201806-1220-001 (this link will only become active on the day following publication of this notice) or by contacting Michel Smyth by telephone at 202-693-4129, TTY 202-693-8064, (these are not toll-free numbers) or sending an email to DOL_PRA_PUBLIC@dol.gov.

Submit comments about this request by mail or courier to the Office of Information and Regulatory Affairs, Attn: OMB Desk Officer for DOL-BLS, Office of Management and Budget, Room 10235, 725 17th Street NW, Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW, Washington, DC 20210; or by email: DOL_PRA_PUBLIC@dol.gov.

FOR FURTHER INFORMATION: Contact Michel Smyth by telephone at 202-693-4129, TTY 202-693-8064, (these are not toll-free numbers) or sending an email to DOL_PRA_PUBLIC@dol.gov.

SUPPLEMENTARY INFORMATION: This ICR seeks approval under the PRA for revisions to the Consumer Expenditure Surveys: Quarterly Interview and Diary information collection. The BLS uses the Consumer Expenditure Surveys to gather information on expenditures, income, and other related subjects. The data is updated periodically in the national Consumer Price Index. In addition, the data is used by a variety of researchers in academia, government agencies, and the private sector. The data is collected from a national probability sample of households designed to represent the total civilian non-institutional population. The Census Authorizing Statute and BLS Authorizing Statute authorize this information collection. See 13 U.S.C. 8b and 29 U.S.C. 2.

This ICR has been characterized as a revision, because of several Quarterly Interview questions will be modified. These changes include collapsing the items codes for attachable campers and unattached campers into a single item code; regrouping the clothing sections for easier understanding by the respondent such as adding a swimwear category, regrouping items previously collected in the Swimwear, swim cover-ups, or swimwear accessories category, and renaming the outerwear section to Coats and Jackets; replacing questions on prepaid long distance calling cards with a question on prepaid cellular cards; and deleting the Miscellaneous expenses/souvenirs question in the trip section, as this has led to duplicate reports. Additionally, an extended recall section will be added on the point of purchase of items for consumer units (CUs) based on (1) the Primary Sampling Unit (PSU) in which the consumer unit resides (population group) and (2) whether the item was not reported by the consumer unit in the current reference period. Only a CU that does not report an expenditure for the item and resides in the PSU in which the extended recall section is being asked will receive these additional questions. In addition, a Consumer Expenditure Diary survey (CED) question will be added about the veteran status of each member of the consumer unit who is 17 and over. The pick-up window, or the time a Field Representative is allowed to pick up the completed CED will also be extended to ten (10) days. Finally, an additional column will be added to the CED for the respondent to record the point of purchase for the expenditure the respondent has recorded.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1220-0050. The current approval is scheduled to expire on January 31, 2021; however, the DOL notes that existing information collection requirements submitted to the OMB receive a month-to-month extension while they undergo review. New requirements would only take effect upon OMB approval. For additional substantive information about this ICR, see the related notice published in the Federal Register on May 15, 2018 (83 FR 22520).

Interested parties are encouraged to send comments to the OMB, Office of Information and Regulatory Affairs at the address shown in the ADDRESSES section within thirty (30) days of publication of this notice in the Federal Register. In order to help ensure appropriate consideration, comments should mention OMB Control Number 1220-0050. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-BLS.

Title of Collection: Consumer Expenditure Surveys: Quarterly Interview and Diary.

OMB Control Number: 1220-0050.

Affected Public: Individuals or Households.

Total Estimated Number of Respondents: 11,355.

Total Estimated Number of Responses: 49,697.

Total Estimated Annual Time Burden: 44,522 hours.

Total Estimated Annual Other Costs Burden: $0.

Authority: 44 U.S.C. 3507(a)(1)(D).

Michel Smyth,
Departmental Clearance Officer.

[FR Doc. 2018-24009 Filed 11-1-18; 8:45 am]

BILLING CODE 4510-24-P